DEPARTMENT OF AGRICULTURE

Forest Service

Notice of Proposed New Fee Sites

AGENCY: Forest Service, Agriculture (USDA).

ACTION: Notice of proposed new fee sites.

SUMMARY: The Colville National Forest is proposing to charge new fees at eight recreation sites listed in Supplementary Information of this notice. Funds from fees would be used for operation, maintenance, and improvements of these recreation sites. An analysis of nearby developed recreation sites with similar amenities shows the proposed fees are reasonable and typical of similar sites in the area.

DATES: If approved, the new fees would be implemented no earlier than six months following the publication of this notice in the Federal Register.

ADDRESSES: Colville National Forest, 765 South Main Street, Colville, WA 99114.

FOR FURTHER INFORMATION CONTACT: Allison Ginn, Recreation Program Lead, 509-380-3586 or allison.ginn@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal the Crescent Lake, Davis Lake, Little Twin Lakes, and Trout Lake campgrounds are proposed at $10 per night and $15 per night at Big Meadow Lake campground. In addition, a $5 per extra vehicle fee is proposed at these campgrounds. This proposal would implement new fees at two recreation rentals: Frater Cabin and Salmo Lookout at $75 per night. A $5 day-use fee per vehicle at Swan Lake Day Use area is also proposed. The full suite of Interagency passes would be honored as well as the Northwest Forest Pass.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: December 21, 2021.
Sandra Watts,
Acting Associate Deputy Chief, National Forest System.

[FR Doc. 2021-28141 Filed 12-27-21; 8:45 am]

BILLING CODE 3411-15-P